ENVIRONMENTAL PROTECTION AGENCY

[FRL-9645-5]

Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 28 and 29 at Mount Vernon Place, 900 Massachusetts Avenue, Washington, DC. The CHPAC was created to advise the Environmental Protection Agency on science, regulations, and other issues relating to children's environmental health.

DATES: The Children's Health Protection Advisory Committee will meet March 28 and 29, 2012.

ADDRESSES: Mount Vernon Place, 900 Massachusetts Avenue, Washington, DC.

FOR FURTHER INFORMATION CONTACT: Martha Berger, Office of Children's Health Protection, USEPA, MC 1107T, 1200 Pennsylvania Avenue NW., Washington, DC 20460, (202) 564-2191, berger.martha@epa.gov.

SUPPLEMENTARY INFORMATION: The meetings of the CHPAC are open to the public. No registration is required. Preliminary agenda includes discussion of an advice letters on lead regulations, social determinants of health and children's environmental health, and EPA's Risk Assessment Forum and children's health projects. The full agenda will be posted at www.epa.gov/children.

Access: For information on access or services for individuals with disabilities, please contact Martha Berger at 202-564-2191 or berger.martha@epa.gov.

Dated: February 21, 2012.
Martha Berger,
Designated Federal Official.

[FR Doc. 2012-5881 Filed 3-9-12; 8:45 am]

BILLING CODE 6560-50-P